DEPARTMENT OF ENERGY

Federal Energy Regulatory Commission

[Docket Nos. RP07-666-000; RP07-667-000]

Colorado Interstate Gas Company; Notice of Technical Conference

October 22, 2007.

Take notice that the Commission will convene a technical conference in the above-referenced proceeding on Thursday, November 15, 2007, at 10 a.m. (EDT), in a room to be designated at the offices of the Federal Energy Regulatory Commission, 888 First Street, NE., Washington DC 20426.

The Commission's September 27, 2007 Order ¹ directed that a technical conference be held to address the issues raised by Colorado Interstate Gas Company's (CIG) August 31, 2007, tariff filings to revise its fuel tracking mechanism and to update the calculation of its cash-out Index Price and cash-out System Index Price (collectively, cash-out prices).

¹ Colorado Interstate Gas Co., 120 FERC ¶ 61,287 (2007).

Commission Staff and parties will have the opportunity to discuss all of the issues raised by CIG's proposals to modify its fuel and LUF mechanism and to adjust its cash-out price calculations. Specifically, CIG should be prepared to address all the concerns raised in the protests, and if necessary, to provide additional technical, engineering and operational support for its proposals. Any party proposing alternatives to CIG's proposals should also be prepared to similarly support its position.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Debbie-Anne Reese at (202) 502-8758 or e-mail Debbie-Anne.Reese@ferc.gov.

Kimberly D. Bose,
Secretary.

[FR Doc. E7-21223 Filed 10-25-07; 8:45 am]

BILLING CODE 6717-01-P